DEPARTMENT OF LABOR

Employment and Training Administration

Investigations Regarding Certifications of Eligibility to Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 26, 2007.

Interested persons are invited to submit written comments regarding the subject matter of the investigations to the Director, Division of Trade Adjustment Assistance, at the address shown below, not later than March 26, 2007.

The petitions filed in this case are available for inspection at the Office of the Director, Division of Trade Adjustment Assistance, Employment and Training Administration, U.S. Department of Labor, Room C-5311, 200 Constitution Avenue, NW., Washington, DC 20210.

Signed at Washington, DC, this 6th day of March 2007.
Ralph Dibattista,
Director, Division of Trade Adjustment Assistance.

Appendix
[TAA petitions instituted between 2/26/07 and 3/2/07]
TA-W | Subject firm (petitioners) | Location | Date of institution | Date of petition
61019 | Robert Bosch Corp. (Wkrs) | Greensville, NC | 02/26/07 | 02/12/07
61020 | Stroupe Mirror Company (Comp) | Thomasville, NC | 02/26/07 | 02/24/07
61021 | Crookhorn-Davis, Inc. (State) | Shelton, CT | 02/26/07 | 02/23/07
61022 | Mid Continent Nail Corporation (Wkrs) | Radford, VA | 02/26/07 | 02/23/07
61023 | Lenze (Wkrs) | Emperia, KS | 02/26/07 | 02/23/07
61024 | Menasha Packaging Company, LLC (Comp) | Pittsburgh, PA | 02/26/07 | 02/23/07
61025 | Methode Electronics (Wkrs) | Golden, IL | 02/26/07 | 02/23/07
61026 | Enterprise Manufacturing-Scot Young Research (State) | St. Joseph, MO | 02/26/07 | 02/23/07
61027 | World Aviation Rewind (State) | Santa Ana, CA | 02/27/07 | 02/26/07
61028 | Stantex, Inc. (Comp) | Milledgeville, GA | 02/27/07 | 02/26/07
61029 | Werner Co. (Comp) | Greenville, PA | 02/27/07 | 02/15/07
61030 | Prospect Mold Inc. (Wkrs) | Cuyahoba Falls, OH | 02/27/07 | 02/23/07
61031 | Hitachi Transport Systems (Comp) | Greenville, SC | 02/27/07 | 02/26/07
61032 | Baker Furniture-Northern Distribution Center (Wkrs) | Grand Rapids, MI | 02/27/07 | 02/23/07
61033 | Trans-Matic Manufacturing Company (State) | Holland, MI | 02/27/07 | 02/23/07
61034 | American Identity, Inc. (Comp) | Orange City, IA | 02/27/07 | 02/26/07
61035 | Santa's Best (Comp) | Manitowoc, WI | 02/27/07 | 02/26/07
61036 | Jones Apparel Group (Wkrs) | Bristol, PA | 02/27/07 | 02/27/07
61037 | Flint Group Pigment (Wkrs) | Holland, MI | 02/27/07 | 02/27/07
61038 | Delphi Corporation (IUE) | Moraine, OH | 02/27/07 | 02/26/07
61039 | Peerless Confection (Union) | Chicago, IL | 02/28/07 | 02/01/07
61040 | Imperial World Inc. (Wkrs) | Westmont, IL | 02/28/07 | 02/07/07
61041 | Collins & Aikman (Comp) | Port Huron, MI | 02/28/07 | 02/27/07
61042 | Kirkwood USA Inc. (Comp) | Ripley, MS | 02/28/07 | 02/27/07
61043 | Judco Manufacturing, Inc. (CA) | Harbor City, CA | 02/28/07 | 02/27/07
61044 | Michigan Metal Coating (Wkrs) | Port Huron, MI | 02/28/07 | 02/07/07
61045 | Eaton Corporation (Comp) | Selma, NC | 02/28/07 | 02/06/07
61046 | Schiffer Dental Care Products LLC (Comp) | Agawam, MA | 03/01/07 | 03/01/07
61047 | David Crowder Design, Inc. (Wkrs) | North Bay Village, FL | 03/01/07 | 02/28/07
61048 | Emerson Network Power (Comp) | Madison, WI | 03/01/07 | 02/28/07
61049 | Morton Metalcraft Co. (Comp) | Honea Path, SC | 03/01/07 | 02/28/07
61050 | Cartamundi, Inc. (Comp) | Kingsport, TN | 03/01/07 | 02/28/07
61051 | Continental Teves (Wkrs) | Morganton, NC | 03/02/07 | 02/07/07
61052 | Allied Systems (Wkrs) | Chesapeake, VA | 03/02/07 | 02/15/07
61053 | Nypro Kentucky (Wkrs) | Loisville, KY | 03/02/07 | 02/28/07
61054 | Corsair Marine, Inc. (State) | Chula Vista, CA | 03/02/07 | 02/28/07
61055 | Fung Lum Sewing Company (Wkrs) | San Francisco, CA | 03/02/07 | 03/01/07
61056 | Klausener of Mississippi (Comp) | Bruce, MS | 03/02/07 | 02/28/07

[FR Doc. E7-4571 Filed 3-13-07; 8:45 am]

BILLING CODE 4510-FN-P